DEPARTMENT OF COMMERCE

15 CFR Chapter VII

[Docket Number 200928-0256]

RIN 0605-XD009

Identification of Prohibited Transactions To Implement Executive Order 13942 and Address the Threat Posed by TikTok and the National Emergency With Respect to the Information and Communications Technology and Services Supply Chain; Preliminary Injunction Order Entered by a Federal District Court

AGENCY: Office of the Secretary, U.S. Department of Commerce.

ACTION: Notification of preliminary injunction.

SUMMARY: The U.S. Department of Commerce (“Department”) is issuing this document to inform the public of a preliminary injunction ordered by a United States district court on September 27, 2020, preventing the implementation of specific Department actions.

DATES: The court order was effective September 27, 2020.

FOR FURTHER INFORMATION CONTACT:

Kathy Smith, National Telecommunications and Information Administration, U.S. Department of Commerce, 1401 Constitution Avenue NW, Washington, DC 20230; telephone: (202) 482-1859.

For media inquiries: Meghan Burris, Director, Office of Public Affairs, U.S. Department of Commerce, 1401 Constitution Avenue NW, Washington, DC 20230; telephone: (202) 482-4883.

SUPPLEMENTARY INFORMATION: On September 24, 2020, the Department published the “Identification of Prohibited Transactions to Implement Executive Order 13942 and Address the Threat Posed by TikTok and the National Emergency with Respect to the Information and Communications Technology and Services Supply Chain” (the “Identification”) in the Federal Register at 85 FR 60061. The Identification provided that the following transactions would be prohibited:

1. Any provision of services to distribute or maintain the TikTok mobile application, constituent code, or application updates through an online mobile application store, or any online marketplace where mobile users within the land or maritime borders of the United States and its territories may download or update applications for use on their mobile devices;

2. Any provision of internet hosting services enabling the functioning or optimization of the TikTok mobile application within the land and maritime borders of the United States and its territories;

3. Any provision of content delivery network services enabling the functioning or optimization of the TikTok mobile application within the land and maritime borders of the United States and its territories;

4. Any provision of directly contracted or arranged internet transit or peering services enabling the functioning or optimization of the TikTok mobile application within the land and maritime borders of the United States and its territories;

5. Any utilization of the TikTok mobile application's constituent code, functions, or services in the functioning of software or services developed and/or accessible within the land and maritime borders of the United States and its territories; or

6. Any other transaction by any person, or with respect to any property, subject to the jurisdiction of the United States, with ByteDance Ltd., or its subsidiaries, including TikTok Inc., in which any such company has any interest, as may be identified at a future date under the authority delegated under Executive Order 13942.

Transactions identified in paragraph 1 above were to be prohibited at 11:59 p.m. eastern standard time on September 27, 2020; transactions identified in paragraphs 2, 3, 4, and 5 above were to be prohibited at 11:59 p.m. eastern standard time on November 12, 2020.

Preliminary Injunction

On September 18, 2020, TikTok Inc. filed a lawsuit in the United States District Court for the District of Columbia (TikTok Inc. et al. v. Trump et al., No. 20-cv-02658), seeking various relief, including a court order to prohibit the Department from implementing or enforcing Executive Order 13942 or the identified prohibited transactions. Plaintiffs subsequently filed a motion for a preliminary injunction to pursue such relief.

On September 27, 2020, the District Court issued an Order granting in part and denying in part the Plaintiffs' motion for a preliminary injunction. This Order enjoined the Department from implementing the prohibition on transactions identified in Paragraph 1 above.

The Department is complying with the terms of this order. Accordingly, this serves as NOTICE that the Secretary's prohibition of identified transactions (limited to the transactions identified in Paragraph 1 above) pursuant to Executive Order 13942, related to TikTok, HAS BEEN ENJOINED, and WILL NOT GO INTO EFFECT, pending further legal developments.

Any further guidance and updates regarding the subject litigation will be posted on the Department website (www.commerce.gov) on an ongoing basis.

Dated: September 29, 2020.

This document of the Department of Commerce was signed on September 29, by Wilbur Ross, Secretary of Commerce. That document with the original signature and date is maintained by the Department of Commerce. For administrative purposes only, and in compliance with requirements of the Office of the Federal Register, the undersigned Department of Commerce Federal Register Liaison Officer has been authorized to sign and submit the document in electronic format for publication, as an official document of the Department of Commerce. This administrative process in no way alters the legal effect of this document upon publication in the Federal Register.

Signed in Washington, DC, on September 29, 2020.
Asha Mathew,
Federal Register Liaison Officer, U.S. Department of Commerce.

[FR Doc. 2020-21897 Filed 9-30-20; 1:00 pm]

BILLING CODE 3510-20-P